DEPARTMENT OF THE TREASURY

Submission for OMB Review; Comment Request

June 10, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 18, 2003 to be assured of consideration.

Internal Revenue Service (IRS)

OMB Number: 1545-0139.

Form Number: IRS Form 2106.

Type of Review: Revision.

Title: Employee Business Expenses.

Description: Internal Revenue Code (IRC) section 62 allows employees to deduct their business expenses to the extent of reimbursement in computing “Adjusted Gross Income”. Expenses in excess of reimbursements are allowed as an itemized deduction. Unreimbursed meals and entertainment are allowed to the extent of 50% of the expense. Form 2106 is used to figure these expenses.

Respondents: Individuals or households.

Estimated Number of Respondents/Recordkeepers: 5,567,188.

Estimated Burden Hours Per Respondent/Recordkeeper:

Recordkeeping—2 hr., 11 min.

Learning about the law or the form—27 min.

Preparing and sending the form—1 hr., 27 min.

Copying, assembling, and sending the form to the IRS—34 min.

Frequency of Response: Annually.

Estimated Total Reporting/Recordkeeping Burden: 22,809,519 hours.

OMB Number: 1545-0890.

Form Number: IRS Form 1120-A.

Type of Review: Extension.

Title: U.S. Corporation Short-Form Income Tax Return.

Description: Form 1120-A is used by small corporations, those with less that $500,000 of income and assets, to compute their taxable income and tax liability. The IRS uses Form 1120-A to determine whether corporations have correctly computed their tax liability.

Respondents: Business or other for-profit, Farms.

Estimated Number of Respondents/Recordkeepers: 191,769.

Estimated Burden Hours Per Respondent/Recordkeeper:

Form | Recordkeeping | Learning about the law or the form | Preparing the form | Copying, assembling, and sending the form to the IRS
1120 | 71 hr., 18 min | 43 hr., 29 min | 75 hr., 24 min | 8 hr., 18 min.
1120-A | 43 hr., 44 min | 23 hr., 6 min | 41 hr., 35 min | 4 hr., 49 min.
Schedule D (1120) | 7 hr., 10 min | 4 hr., 6 min | 6 hr., 16 min | 32 min.
Schedule H (1120) | 5 hr., 58 min | 35 min | 43 min | 0 min.
Schedule N (1120) | 3 hr., 35 min | 1 hr., 7 min | 3 hr., 6 min | 32 min.
Schedule PH (1120) | 15 hr., 18 min | 6 hr., 12 min | 8 hr., 35 min | 32 min.

Frequency of Response: Annually.

Estimated Total Reporting/Recordkeeping Burden: 19,152,552 hours.

OMB Number: 1545-1057.

Form Number: IRS Form 8800.

Type of Review: Extension.

Title: Application for Additional Extension of Time to File U.S. Return for a Partnership, REMIC, or for Certain Trusts.

Description: Form 8800 is used by partnerships, real estate mortgage investment conduits (REMICs), and by certain trusts to request an additional extension of time (up to 3 months) to file Form 1065, Form 1041, or Form 1066. Form 8800 contains data needed by the IRS to determine whether or not a taxpayer qualifies for such an extension.

Respondents: Business or other for-profit, Farms.

Estimated Number of Respondents/Recordkeepers: 20,000.

Estimated Burden Hours Per Respondent/Recordkeeper: 11 minutes.

Frequency of Response: Annually.

Estimated Total Reporting/Recordkeeping Burden: 3,800 hours.

Clearance Officer: Glenn Kirkland, Internal Revenue Service, Room 6411-03, 1111 Constitution Avenue, NW, Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 03-15382 Filed 6-17-03; 8:45 am]

BILLING CODE 4830-01-P